DEPARTMENT OF AGRICULTURE

Animal and Plant Health Inspection Service

9 CFR Part 77

[Docket No. APHIS-2008-0124]

Tuberculosis in Cattle and Bison; State and Zone Designations; NM; Correction

AGENCY: Animal and Plant Health Inspection Service, USDA.

ACTION: Correcting amendment.

SUMMARY: We are correcting an error in the regulatory text of an interim rule that amended the bovine tuberculosis regulations by establishing two separate zones with different tuberculosis risk classifications for the State of New Mexico. The interim rule was published in the Federal Register on March 23, 2009 (74 FR 12055-12058, Docket No. APHIS-2008-0124).

DATES: Effective Date: March 22, 2012.

FOR FURTHER INFORMATION CONTACT: Dr. C. William Hench, Senior Staff Veterinarian, National Tuberculosis Eradication Program, Veterinary Services, APHIS, 2150 Centre Ave, Bldg B, MSC 3E20, Ft. Collins, CO 80526; (970) 494-7378.

SUPPLEMENTARY INFORMATION: In an interim rule published in the Federal Register on March 23, 2009 (74 FR 12055-12058, Docket No. APHIS-2008-0124), we amended the bovine tuberculosis regulations by establishing two separate zones with different tuberculosis risk classifications for the State of New Mexico. (Please note, however, that the State of New Mexico, in a subsequent rule, was declared an accredited-free State and still holds that status). In our March 2009 rule, when we removed New Mexico from the list of modified accredited advanced States, we revised § 77.9(a) and introduced an error by referring to “modified accredited States” when we should have referred to “modified accredited advanced States.” This document corrects that error.

List of Subjects in 9 CFR Part 77

Animal diseases, Bison, Cattle, Reporting and recordkeeping requirements, Transportation, Tuberculosis.

Accordingly, 9 CFR part 77 is corrected by making the following correcting amendment:

PART 77—TUBERCULOSIS

1. The authority citation for part 77 continues to read as follows:

Authority: 7 U.S.C. 8301-8317; 7 CFR 2.22, 2.80, and 371.4.

2. In § 77.9, paragraph (a) is revised to read as follows:

§ 77.9 Modified accredited advanced States or zones.

(a) The following are modified accredited advanced States: California.

* * * * *

Done in Washington, DC, this 16th day of March 2012.
Kevin Shea,
Acting Administrator, Animal and Plant Health Inspection Service.

[FR Doc. 2012-6904 Filed 3-21-12; 8:45 am]

BILLING CODE 3410-34-P